DEPARTMENT OF THE INTERIOR

National Park Service

[NPS-WASO-PCE-COR-12237; PPWOPCADD0, PNA00RT14.GT0000]

60-Day Notice of Intention To Request Clearance of Collection of Information; Opportunity for Public Comment

AGENCY: National Park Service, Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: Please submit your comment on or before May 6, 2013.

ADDRESSES: Please send your comments on the proposed IC to Madonna Baucum, Information Collection Clearance Officer, National Park Service, 1201 Eye St. NW., Rm. 1237, Washington, DC 20005 (mail); via fax at 202/371-6741, or via email to madonna_baucum@nps.gov. Please reference IC “1024-New: Rivers, Trails, and Conservation Assistance Program” in the subject line.

FOR FURTHER INFORMATION CONTACT: Stephan Nofield, Rivers, Trails, and Conservation Assistance Program Manager, National Park Service, Department of the Interior, 1201 Eye St. NW., Washington, DC 20005. You may send an email to stephan_nofield@nps.gov or contact him by telephone at (202/354-6922) or via fax at (202/371-5179).

SUPPLEMENTARY INFORMATION:

I. Abstract

The purpose of this information collection is to enable members of the general public to apply for technical assistance from the National Park Service (NPS). The technical assistance would be provided by the Rivers, Trails, and Conservation Assistance (RTCA) Program. The information collected will be used by the NPS to evaluate the applications for technical assistance.

The RTCA Program draws its authority from three important pieces of legislation, the Wild and Scenic Rivers Act (16 U.S.C. 1271 through 1287), the National Trails System Act (16 U.S.C. 1241 through 1249), and the Outdoor Recreation Act of 1963 (16 U.S.C. 4601-1 through 4601-3).

The RTCA program is the community assistance arm of the National Park Service. RTCA supports community-led natural resource conservation and outdoor recreation projects. Additionally, RTCA staff provide technical assistance to communities so they can conserve rivers, preserve open space, and develop trails and greenways.

II. Data

OMB Control Number: 1024-New.

Title: Rivers, Trails, and Conservation Assistance Program.

Form(s): Online application form for technical assistance and a .pdf application form for technical assistance.

Type of Request: Existing collection in use without approval.

Automated Data Collection: No.

Will the Information Be Collected Electronically? Yes.

Description of Respondents: Private individuals; state, tribal, and local governments; businesses; educational institutions; and nonprofit organizations.

Respondent's Obligation: Required to obtain benefits.

Frequency of Collection: Annually.

Estimated Number of Responses: 500.

Estimated Annual Burden Hours: 375. We estimate the public reporting burden will average 45 minutes per response for the RTCA application.

Estimated Annual Reporting and Recordkeeping “Non-Hour Cost”: None

Description of Need: The purpose of this information collection is to provide sufficient data for a community based project to be considered for technical assistance by the Rivers, Trails, and Conservation Assistance program.

Public Disclosure Statement: The PRA (44 U.S.C. 3501, et seq.) provides that an agency may not conduct or sponsor a collection of information unless it displays a currently valid OMB control number and current expiration date.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can request in your comment to withhold your personal identifying information from public review, we cannot guarantee that it will be done.

Dated: February 27, 2013.
Madonna L. Baucum,
Information Collection Clearance Officer, National Park Service.

[FR Doc. 2013-05273 Filed 3-6-13; 8:45 am]

BILLING CODE 4310-EH-P